FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Matthew B. Miller, P.E., Chief, Hazards Study Branch, Federal Insurance and Mitigation Administration, Federal Emergency Management Agency, 500 C Street SW., Washington, DC 20472, (202) 646-3461, or (email) matt.miller@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with Section 110 of the Flood Disaster Protection Act of 1973, 42 U.S.C. 4104, and 44 CFR Part 67.

The Agency has developed criteria for floodplain management in floodprone areas in accordance with 44 CFR Part 60.

Interested lessees and owners of real property are encouraged to review the proof Flood Insurance Study and Flood Insurance Rate Map available at the address cited below for each community.

The base flood elevations and modified base flood elevations are made final in the communities listed below. Elevations at selected locations in each community are shown.

National Environmental Policy Act

This rule is categorically excluded from the requirements of 44 CFR Part 10, Environmental Consideration. No environmental impact assessment has been prepared.

Regulatory Flexibility Act

The Acting Administrator for Federal Insurance and Mitigation Administration certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform.

This rule meets the applicable standards of Section 2(b)(2) of Executive Order 12778.

List of Subjects in 44 CFR Part 67

Administrative practice and procedure, Flood insurance, Reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD)
FLORIDA
Daytona Beach (City), Volusia County (FEMA Docket No. 7311)
Atlantic Ocean:
Approximately 450 feet northeast of the intersection of Harvey Avenue and Ocean Avenue South | *10
Approximately 300 feet east of the intersection of Hartford Avenue and Atlantic Avenue North | *13
Intracoastal Waterway:
Approximately 500 feet west of the intersection of Glenview Boulevard and Halifax Avenue North | *5
Approximately 700 feet east of the intersection of San Juan Avenue and North Beach Street | *8
B-19 Canal Tributary No. 7:
At confluence with B-19 Canal | *30
Approximately 150 feet upstream of Beville Road/State Route 400 | *30
B-19 Canal:
Approximately 1,100 feet upstream of the confluence of B-19 Canal Tributary No. 3 with B-19 Canal | *29
Approximately 100 feet upstream of State Route 400 | *30
Tomoka River:
Approximately 0.8 mile downstream of Eleventh Street | *14
Approximately 400 feet downstream of Interstate 4 | *25
Maps available for inspection at Daytona Beach Public Works Complex, Engineering Department, 950 Bellevue Avenue, Daytona Beach, Florida.
Daytona Beach Shores (City), Volusia County (FEMA Docket No. 7311)
Atlantic Ocean:
Approximately 400 feet east of the intersection of Ridge Road and Atlantic Avenue South | *10
Approximately 500 feet east of the intersection of Van Avenue and Atlantic Avenue South | *12
Intracoastal Waterway:
Approximately 400 feet west of the intersection of Richards Lane and Peninsula Drive South | *6
At the intersection of Demott Street and Peninsula Drive South | *6
Maps available for inspection at the City of Daytona Beach Shores City Hall, Building Division, 3050 South Atlantic Avenue, Daytona Beach, Florida.
Edgewater (City), Volusia County (FEMA Docket No. 7311)
Indian River North/Intracoastal Waterway:
Just on the Easterly side of the intersection of Boston Road and Riverside Drive | *7
Approximately 100 feet east of the intersection of Knapp Avenue and Riverside Drive South | *9
Maps available for inspection at the City of Edgewater Planning Department, 104 North Riverside Drive, Edgewater, Florida.
Holly Hill (City), Volusia County (FEMA Docket No. 7311)
Intracoastal Waterway:
At the intersection of High Street and Burleigh Avenue | *6
Approximately 100 feet east of the intersection of 15th Place and Riverside Drive | *7
Maps available for inspection at the Holly Hill City Hall, 1065 Ridgewood Avenue, Holly Hill, Florida.
———
New Smyrna Beach (City), Volusia County (FEMA Docket No. 7311)
Atlantic Ocean:
Approximately 400 feet east of the intersection of 3rd Avenue East and Atlantic Avenue South | *10
Approximately 0.8 mile north of the intersection of Peninsula Avenue North and Ocean Drive | *12
Indian River North/Intracoastal Waterway:
At the intersection of Ocean Drive and Peninsula Avenue North | *7
Approximately 1,500 feet east of the intersection of Conrad Drive and Redland Drive | *9
Maps available for inspection at the New Smyrna City Hall, 210 Sams Avenue, New Smyrna Beach, Florida.
———
Oak Hill (City), Volusia County (FEMA Docket No. 7311)
Atlantic Ocean:
Approximately 120 feet east of the intersection of State Route A1A and Volusia County/Oak Hill corporate limits | *11
Approximately 500 feet from the southern Volusia County/Oak Hill corporate limits along State Route A1A north, then approximately 350 feet east | *12
Indian River North/Intracoastal Waterway:
Approximately 1,500 feet southwest of the intersection of South Street and State Route A1A in Volusia County | *6
Approximately 500 feet east of the intersection of Cheyenne Drive and Golden Bay Boulevard | *8
Maps available for inspection at the Oak Hill City Hall, 234 South U.S. Highway 1, Oak Hill, Florida.
———
Ormond Beach (City), Volusia County (FEMA Docket No. 7311)
Atlantic Ocean:
Approximately 350 feet east of the intersection of Ann Rustin Drive and Ocean Shore Boulevard | *10
Approximately 600 feet east of the intersection of Harvard Drive and Florence Street | *12
Halifax River/Intracoastal Waterway:
At the intersection of John Anderson Drive and St. Mark Circle | *4
Approximately 100 feet east of the intersection of Seville Street and Beach Street South | *7
Approximately 200 feet west of intersection of John Anderson Drive and Buckingham Drive | *4
Tomoka River:
Approximately 1.1 miles downstream of confluence of Thompson Creek | *5
Approximately 1,500 feet upstream of State Route 40 | *10
Misner Branch:
At confluence with Tomoka River | *8
Approximately 100 feet upstream of Handy Avenue | *15
Little Tomoka River:
At confluence with Tomoka River | *10
At State Route 40 | *28
Groover Branch:
At confluence with Tomoka River approximately 1,300 feet downstream of Tymber Run Road | *20
Approximately 340 feet upstream of Tymber Creek Road North | *10
Thompson Creek:
Approximately 470 feet downstream of U.S. Route 1 North | *7
Approximately 0.45 mile upstream of Tomoka Avenue | *8
Maps available for inspection at Ormond Beach City Hall, Planning Department, 22 South Beach Street, Room 104, Ormond Beach Florida.
———
Ponce Inlet (Town), Volusia County (FEMA Docket No. 7311)
Atlantic Ocean:
Approximately 300 feet east of the intersection of Old Carriage Road and Atlantic Avenue South | *10
Approximately 750 feet east of the Beach Street and Atlantic Avenue South intersection | *12
Intracoastal Waterway:
At the intersection of Maura Court and Peninsula Drive South | *7
Approximately 2,500 feet south of the intersection of Beach and Sailfish Drive | *9
Maps available for inspection at the Ponce Inlet Town Hall, 4680 South Peninsula Drive, Ponce Inlet, Florida.
———
Port Orange (City), Volusia County (FEMA Docket No. 7311)
B-19 Canal:
Approximately 300 feet upstream of confluence with Spruce Creek | *5
Approximately 150 feet downstream of the confluence of B-19 Canal Tributary No. 5 with B-19 Canal | *29
B-19 Canal Tributary No. 2:
At the confluence with B-19 Canal | *28
Approximately 1,500 feet upstream of confluence with B-19 Canal | *28
Intracoastal Waterway:
At the intersection of Riverview Lane and Simpson Avenue | *6
At the intersection of Portobello Drive and Riverside Drive | *9
Maps available for inspection at the Port Orange City Hall, 1000 City Center Circle, Port Orange, Florida.
———
South Daytona (City), Volusia County (FEMA Docket No. 7311)
Intracoastal Waterway:
At the intersection of Sea Isle Circle and Palmetto Avenue | *6
Approximately 600 feet east of the intersection of Venture Drive and U.S. Route 1 (Ridgewood Avenue South) | *8
Approximately 125 feet southwest of the intersection of Reed Canal Road and Ridgewood Avenue South/U.S. Route 1 | *6
———
Volusia County (Unincorporated Areas) (FEMA Docket No. 7311)
Atlantic Ocean:
Approximately 350 feet east of the intersection of Plaza Drive and Ocean Shore Boulevard | *10
Approximately 300 feet southeast of the intersection of Kingfish Avenue and Atlantic Avenue South | *12
Approximately 500 feet southeast of intersection of Ocean Shore Boulevard and northern county boundary | *12
Halifax River/Intracoastal Waterway:
Approximately 100 feet southwest of the intersection of John Anderson Drive and Highridge Road | *4
Approximately 2,750 feet west of intersection of Cardinal Boulevard and Major Street | *9
Indian River North/Intracoastal Waterway:
Approximately 1,000 feet east of intersection of Pelican Place and Riverside Drive | *7
Approximately 50 feet west of the intersection of Trout Avenue and Atlantic Avenue | *6
Groover Branch:
Approximately 1,250 feet upstream of Tymber Run | *10
Approximately 340 feet upstream of Tymber Creek Road North | *20
Tomoka River:
Approximately 1.17 miles downstream of confluence of Thompson Creek | *5
Approximately 0.96 mile upstream of U.S. Route 92 | *25
Little Tomoka River:
At confluence with Tomoka River, approximately 1,850 feet downstream of Main Trail Road | *10
Approximately 200 feet upstream of State Route 40 | *30
B-19 Canal:
At the confluence of B-19 Canal Tributary No. 2 | *28
Approximately 550 feet northeast of the confluence of B-19 Canal Tributary No. 3 with B-19 Canal | *29
Crescent Lake:
Approximately 6,000 feet northeast of the intersection of Ducan Road and Raulerson Road No. 7 | *7
Approximately 2.84 miles northeast of the intersection of Ducan Road and Raulerson Road No. 7 | *7
B-19 Canal Tributary No. 2:
Approximately 50 feet upstream of confluence with B-19 Canal | *28
Approximately 650 feet upstream of confluence with B-19 Canal | *28
Maps available for inspection at the Volusia County Emergency Operations Center, 49 Keyton Drive, Daytona, Florida.
MAINE
Bangor (City), Penobscot County (FEMA Docket No. D-7510)
Penobscot River:
At downstream corporate limits | *16
At upstream corporate limits | *25
Penjajawoc Stream:
At Mount Hope Avenue | *45
Approximately 0.31 mile upstream of Stillwater Avenue | *107
Kenduskeag Stream:
At confluence with Penobscot River | *18
Approximately 0.64 mile upstream of confluence with Penobscot River | *18
Maps available for inspection at the Bangor City Hall, 73 Harlow Street, Bangor, Maine.
NEW JERSEY
Bernards (Township), Somerset County (FEMA Docket No. D-7504)
Passaic River:
Approximately 1.6 miles downstream of Passaic Valley Road | *214
Approximately 100 feet downstream of the upstream corporate limits | *303
Dead River:
At the downstream corporate limits | *214
Approximately 0.78 mile upstream of the downstream corporate limits | *216
Maps available for inspection at the Bernards Township Hall, Engineer's Office, 277 South Maple Avenue, Bernards, New Jersey.
———
Millburn (Township), Essex County (FEMA Docket No. D-7506)
Passaic River:
Approximately 2,550 feet upstream of downstream corporate limits | *177
Approximately 200 feet downstream of Main Street | *179
Maps available for inspection at the Millburn Township Hall, 375 Millburn Avenue, Millburn, New Jersey.
PENNSYLVANIA
Avondale (Borough), Chester County (FEMA Docket No. D-7502)
East Branch White Clay Creek:
Approximately 330 feet downstream of State Route 41 | *271
Approximately 1,060 feet upstream of 3rd Avenue | *280
Maps available for inspection at the Avondale Borough Hall, 110 Palmroy Avenue, Avondale, Pennsylvania.
———
Caln (Township), Chester County (FEMA Docket No. D-7502)
East Branch Brandywine Creek:
Approximately 900 feet downstream of State Route 282 | *241
Approximately 1,100 feet upstream of U.S. Route 30 | *253
Maps available for inspection at the Caln Municipal Building, Department of Engineering and Code Enforcement, 253 Municipal Drive, Thorndale, Pennsylvania.
———
Coatesville (City), Chester County (FEMA Docket No. D-7502)
West Branch Brandywine Creek:
Approximately 2,800 feet downstream of Business Route 30 | *307
Just downstream of Kings Highway | *362
Maps available for inspection at the Coatesville City Hall, Codes Department, 1 City Hall Place, Coatesville, Pennsylvania.
———
Downingtown (Borough), Chester County (FEMA Docket No. D-7502)
East Branch Brandywine Creek:
Approximately 3,000 feet upstream of U.S. Route 322 | *232
Approximately 700 feet upstream of U.S. Route 30 | *253
Maps available for inspection at the Downingtown Borough Hall, 4 West Lancaster Avenue, Downingtown, Pennsylvania.
———
East Bradford (Township), Chester County (FEMA Docket No. D-7502)
East Branch Brandywine Creek:
Approximately 450 feet downstream of Route 842 | *187
Approximately 1,250 feet downstream of U.S. Route 322 (second crossing) | *224
West Branch Brandywine Creek:
Approximately 200 feet upstream of confluence with Brandywine Creek | *187
Approximately 4,200 feet upstream of State Road 842 (Wawaset Road) | *195
Maps available for inspection at the East Bradford Township Hall, 666 Copeland Road, West Chester, Pennsylvania.
———
East Brandywine (Township), Chester County (FEMA Docket No. D-7502)
East Branch Brandywine Creek:
Approximately 1,162 feet upstream of U.S. Route 30 | *253
Approximately 3,500 feet upstream of Lyndell Road | *338
Maps available for inspection at the East Brandywine Township Office, 1214 Horseshoe Pike, Downingtown, Pennsylvania.
———
East Caln (Township), Chester County (FEMA Docket No. D-7502)
East Branch Brandywine Creek:
Approximately 1,125 feet downstream of U.S. Route 322 (second crossing) | *224
Approximately 2,350 feet downstream of Dowlin Forge Road | *260
Maps available for inspection at the East Caln Township Hall, 110 Bell Tavern Road, Downingtown, Pennsylvania.
———
East Fallowfield (Township), Chester County (FEMA Docket No. D-7502)
West Branch Brandywine Creek:
Approximately 500 feet downstream of State Route 3062 (Strasburg Road) | *252
Approximately 375 feet downstream of CONRAIL Railroad bridge | *272
Maps available for inspection at the East Fallowfield Township Hall, 2264 Strasburg Road, East Fallowfield, Pennsylvania.
———
Honey Brook (Township), Chester County (FEMA Docket No. D-7502)
East Branch Brandywine Creek:
Just upstream of South Creek or Chestnut Tree Road | *558
Approximately 2,920 feet upstream of Suplee Road | *597
Maps available for inspection at the Honey Brook Township Building, 495 Suplee Road, Honey Brook, Pennsylvania.
———
London Grove (Township), Chester County (FEMA Docket No. D-7502)
East Branch White Clay Creek:
Approximately 1,080 feet upstream of Third Avenue | *279
Approximately 1,440 feet upstream of Third Avenue | *280
Maps available for inspection at the London Grove Township Hall, 372 Rosehill Road, Suite 100, West Grove, Pennsylvania.
———
Modena (Borough), Chester County (FEMA Docket No. D-7502)
West Branch Brandywine Creek:
Approximately 500 feet downstream of Luria Railroad Bridge (CONRAIL) | *272
Approximately 4,200 feet downstream of First Avenue | *283
Maps available for inspection at the Modena Borough Hall, North Brandywine Avenue, Modena, Pennsylvania.
———
New Garden (Township), Chester County (FEMA Docket No. D-7502)
East Branch White Clay Creek:
Approximately 1,080 feet upstream of Third Avenue | *279
Approximately 1,440 feet upstream of Third Avenue | *280
Maps available for inspection at the New Garden Township Building, 8934 Gap Newport Pike, Landenburg, Pennsylvania.
———
Newlin (Township), Chester County (FEMA Docket No. D-7502)
West Branch Brandywine Creek:
Approximately 800 feet upstream of State Route 3027 (Northbrook Road) | *202
Approximately 500 feet downstream of State Route 3062 (Strasburg Road) | *252
Maps available for inspection at Yerkey's Associates, 1444 Phoenixville Pike, West Chester, Pennsylvania.
———
Pocopson (Township), Chester County (FEMA Docket No. D-7502)
West Branch Brandywine Creek:
Approximately 200 feet upstream of confluence with Brandywine Creek | *187
Approximately 2,500 feet upstream of State Route 3027 (Northbrook Road) | *203
Maps available for inspection at the Pocopson Township Hall, 740 Denton Hollow Road, West Chester, Pennsylvania.
———
South Coatesville (Borough), Chester County (FEMA Docket No. D-7502)
West Branch Brandywine:
Approximately 0.89 mile *281 downstream of First Avenue | *281
Approximately 0.71 mile upstream of First Avenue | *305
Maps available for inspection at the South Coatesville Borough Hall, 136 Modena Road, South Coatesville, Pennsylvania.
———
Upper Uwchlan (Township), Chester County (FEMA Docket No. D-7502)
East Branch Brandywine Creek:
Approximately 600 feet downstream of Dorlan Hill Road | *281
Approximately 3,500 feet upstream of Lyndell Road | *338
Maps available for inspection at the Upper Uwchlan Township Building, 140 Pottstown Pike, Chester Springs, Pennsylvania.
———
Uwchlan (Township), Chester County (FEMA Docket No. D-7502)
East Branch Brandywine Creek:
Approximately 2,350 feet downstream of Dowlin Forge Road | *260
Approximately 600 feet downstream of Dorlan Hill Road | *281
Maps available for inspection at the Uwchlan Township Hall, 715 North Ship Road, Exton, Pennsylvania.
———
Valley (Township), Chester County (FEMA Docket No. D-7502)
West Branch Brandywine Creek:
Approximately 3,300 feet downstream Business Route 30 (Lincoln Highway) | *305
Approximately 1,050 feet upstream from Valley Station Drive | *341
Maps available for inspection at the Valley Township Building, 890 West Lincoln Highway, Coatesville, Pennsylvania.
———
Wallace (Township), Chester County (FEMA Docket No. D-7502)
East Branch Brandywine Creek:
Approximately 3,500 feet upstream of Lyndell Road | *338
Approximately 6,000 feet downstream of North Manor Road | *481
Maps available for inspection at the Wallace Township Building, 451 Fairview Road, Glen Moore, Pennsylvania.
———
West Bradford (Township), Chester County (FEMA Docket No. D-7502)
West Branch Brandywine Creek:
Approximately 4,200 feet upstream of State Road 842 | *195
Approximately 800 feet upstream of State Route 3027 (Northbrook Road) | *202
East Branch Brandywine Creek:
Approximately 5,100 feet downstream of U.S. Route 322 (First one) | *205
Approximately 3,000 feet upstream of U.S. Route 322 (Second one) | *232
Maps available for inspection at the West Bradford Township Hall, 1385 Campus Drive, Downingtown, Pennsylvania.
———
West Brandywine (Township), Chester County (FEMA Docket No. D-7502)
West Branch Brandywine Creek:
Approximately 150 feet upstream of Kings Highway (State Route 340) | *365
Approximately 600 feet upstream of Kings Highway | *367
Maps available for inspection at the West Brandywine Township Hall, 199 LaFayette Road, Coatesville, Pennsylvania.
———
West Caln (Township), Chester County (FEMA Docket No. D-7502)
West Branch Brandywine Creek:
Approximately 150 feet upstream of Kings Highway (State Route 340) | *365
Approximately 600 feet upstream of Kings Highway | *367
Maps available for inspection at the West Caln Township Hall, 721 Kings Highway, Wagontown, Pennsylvania.
———
West Nantmeal (Township), Chester County (FEMA Docket No. D-7502)
East Branch Brandywine Creek:
Approximately 1.14 miles downstream of North Manor Road | *481
Just downstream of Chestnut Tree Road | *558
Maps available for inspection at the West Nantmeal Township Hall, 455 North Manor Road, Elverson, Pennsylvania.
TENNESSEE
Selmer (City), McNairy County (FEMA Docket No. D-7512)
Cypress Creek:
Approximately 1,700 feet downstream of South Fourth Street | *433
Approximately 1,855 feet upstream of Purdy Road | *444
Crooked Creek:
At the confluence with Cypress Creek | *439
Approximately 0.5 mile upstream of Highschool Road | *459
Maps available for inspection at the City Hall, 144 North Second Street, Selmer, Tennessee.
VERMONT
Woodstock (Town and Village), Windsor County (FEMA Docket No. D-7510)
Ottauquechee River:
Approximately 550 feet upstream of U.S. Route 4 | *697
At the upstream corporate limits | *812
Maps available for inspection at Town Hall, 31 The Green, Woodstock, Vermont.

(Catalog of Federal Domestic Assistance No. 83.100, “Flood Insurance”)
Dated: October 9, 2001.
Robert F. Shea,
Acting Administrator, Federal Insurance and Mitigation Administration.

[FR Doc. 01-26429 Filed 10-18-01; 8:45 am]

BILLING CODE 6718-08-P